DEPARTMENT OF AGRICULTURE

Submission for OMB Review; Comment Request

January 24, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by March 1, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Water Use Surveys.

OMB Control Number: 0535-NEW.

Summary of Collection: The primary function of the National Agricultural Statistics Service (NASS) is to prepare and issue current official State and national estimates of crop and livestock production, value, and disposition, and resource use. General authority for these data collection activities is granted under U.S. Code Title 7, Section 2204. This statute specifies that “The Secretary of Agriculture shall procure and preserve all information concerning agriculture which he can obtain . . . by the collection of statistics . . . and shall distribute them among agriculturists.”

Need and Use of the Information: The Water Use Survey program will collect information on water usage for North Carolina agricultural operations that likely use between 10,000 and 1,000,000 gallons per day. For operations that are unable to provide water use data, an estimation guide is included in the questionnaire that the respondents can use to estimate their water usage based on their agricultural production data. The program will help the North Carolina Department of Agriculture and Consumer Services and North Carolina Department of Environmental Quality fulfill requirements of North Carolina state legislation enacted in 2008. Collecting data less frequently would prevent the agriculture industry from being kept abreast of water use changes for North Carolina.

Description of Respondents: Farms; Businesses or other for-profit.

Number of Respondents: 3,330.

Frequency of Responses: Reporting: Annually.

Total Burden Hours: 1,614.

National Agricultural Statistics Service

Title: Wine Grape Inventory Surveys.

OMB Control Number: 0535-NEW.

Summary of Collection: The primary function of the National Agricultural Statistics Service (NASS) is to prepare and issue current official State and national estimates of crop and livestock production, value, and disposition. Limited data exists specifically for wine grapes. Currently, only Oregon and Washington publish annual statistics for wine grapes that are funded by their State Departments of Agriculture. General authority for these data collection activities is granted under U.S. Code Title 7, Section 2204. This statute specifies that “The Secretary of Agriculture shall procure and preserve all information concerning agriculture which he can obtain . . . by the collection of statistics . . . and shall distribute them among agriculturists.”

Need and Use of the Information: The Wine Grape Inventory survey program will collect information on number of producers, age of vines, acreage by wine grape variety, and number of vines by wine grape variety in select States. The program will provide data needed by the State Departments of Agriculture, other government agencies, and producer groups to track the growth and production practice information of the wine grape industry. Collecting data less frequently would prevent the agriculture industry from being kept abreast of changes at the State and variety level.

Description of Respondents: Farms; Businesses or other for-profit.

Number of Respondents: 1,330.

Frequency of Responses: Reporting: Annually.

Total Burden Hours: 482.

Ruth Brown,
Departmental Information Collection Clearance Officer.

[FR Doc. 2018-01667 Filed 1-29-18; 8:45 am]

BILLING CODE 3410-20-P